DEPARTMENT OF DEFENSE

Department of the Air Force

Notice of Intent To Prepare an Environmental Impact Statement for the Expansion of the Powder River Complex Near Ellsworth AFB, South Dakota

AGENCY: Air Combat Command, Department of the Air Force.

ACTION: Notice of Intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the Air Force is issuing this notice to advise the public of its intent to prepare an Environmental Impact Statement (EIS). The EIS will assess the potential environmental consequences of a proposal to expand and enhance the Air Force's existing Powder River Complex (PRC) which currently has both airspace and ground-based Air Force training assets in South Dakota, Wyoming, and Montana.

The Air Force proposal would establish the Powder River Training Complex (PRTC). The PRTC would more effectively use limited resources and finite flying hours by providing locally the realistic training needed by B-1 and B-52 aircrews flying from Ellsworth Air Force Base (AFB) and Minot AFB, respectively. This would address the training and other limitations affecting the existing PRC training assets as they are currently configured. The proposed action would restructure and reconfigure the existing PRC Military Operations Areas (MOAs) and associated Air Traffic Control Assigned Airspace (ATCAA), establish additional MOA/ATCAA combinations in portions of South Dakota, North Dakota, Wyoming, and Montana, and include Gap MOAs to link these airspace units together for anticipated quarterly exercises. The resulting PRTC would provide a versatile, scalable complex with more realistic, effective, and efficient air combat training. Under each action alternative, the proposal would add new airspace with a floor of 500 feet above ground level (AGL) and eliminate some existing airspace. The proposed PRTC would also support additional ground-based simulated threat emitters under the MOAs, authorize use of defensive chaff and flares throughout the special use airspace, and permit supersonic flight above 10,000 feet AGL (above ground level) within the special use airspace. Changes to the airspace would permit increased local training throughout the MOAs and ATCAAs and provide for almost a full range of required combat training missions which replicate the combat conditions faced by Ellsworth AFB and Minot AFB aircrews. The modular design of the airspace would provide for more viable combat training with today's technological systems, and support missions such as dissimilar air combat training, network linked operations, and large force exercises. Three action alternatives and a no-action alternative have currently been identified for analyses (per 40 CFR 1502.14(d)). Alternative A, Full PRTC, would establish low (MOAs) and high (ATCAA) airspace that would expand the area overflown at low altitude from the existing approximately 5,900 square miles to approximately 31,700 square miles. Under Alternative B the low-altitude MOA airspace would overfly approximately 22,800 square miles. Under Alternative C the low-altitude MOA airspace would overfly approximately 24,500 square miles. The proposed ATCAA airspace would overfly approximately 37,800 square miles under Alternatives A, B, or C. Under the no action alternative, the existing PRC would continue with low altitude MOAs overflying approximately 5,900 square miles and ATCAAs overflying approximately 14,100 square miles.

DATES: The Air Force will host a series of public scoping meetings in communities underlying and/or adjacent to the proposed action. The purpose of these meetings is to receive public input on the proposed action and alternatives, as well as gain a better understanding of the potential issues and concerns related to this proposal. All public meetings will be held from 4-7 p.m. The schedule and locations of the scoping meetings are provided below:

1. Monday, June 16, 2008: Rapid City Public Library, 610 Quincy Street, Rapid City, SD.

2. Tuesday, June 17, 2008: Community Center, 1111 National Street, Belle Fourche, SD.

3. Wednesday, June 18, 2008: Crook County Public Library, 414 E. Main Street, Sundance, WY.

4. Thursday, June 19, 2008: Campbell County Fire Department, 106 Rohan Ave, Gillette, WY.

5. Friday, June 20, 2008: Sheridan Senior Center, 211 Smith Street, Sheridan, WY.

6. Monday, June 23, 2008: Hardin Chamber of Commerce, 10 E. Railroad Street, Hardin, MT.

7. Tuesday, June 24, 2008: IDCLC, 520 Poplar Drive, Colstrip, MT.

8. Wednesday, June 25, 2008: Miles Community College, 2715 Dickinson, Miles City, MT.

9. Thursday, June 26, 2008: St. Joan of Arc Parish Hall, Church Street, Ekalaka, MT.

10. Friday, June 27, 2008: Powder River County District High School, 500 North Trautman, Broadus, MT.

11. Tuesday, July 8, 2008: Baker High School, 1015 South Third Street West, Baker, MT.

12. Wednesday, July 9, 2008: City Hall, 101 First Street, SW, Bowman, ND.

13. Thursday, July 10, 2008: Elgin Community Center, 305 N Main St., Elgin, ND.

14. Monday, July 14, 2008: Harding County Memorial Recreation Center, West Allison Street, Buffalo, SD.

15. Tuesday, July 15, 2008: Bison School Cafeteria, 200 E. Carr St., Bison, SD.

Additional community meetings are being coordinated for the Crow Indian Reservation, Northern Cheyenne Indian Reservation, Standing Rock Indian Reservation and Cheyenne River Indian Reservation.

ADDRESSES: Federal, state, and local agencies, and interested groups and persons are invited to attend the scoping open house meetings. All are encouraged to provide comments on the proposed action either at the scoping meetings or by mail, postmarked no later than August 4, 2008 to ensure proper consideration in the environmental impact analyses.

FOR FURTHER INFORMATION CONTACT: Direct written comments or requests for further information to: Ms. Linda DeVine, HQ ACC/A7PP, 129 Andrews Street, Suite 122 (Room 317), Langley AFB, VA 23665-2769 (757-764-9434).

Bao-Anh Trinh,
Air Force Federal Register Liaison Officer.

[FR Doc. E8-11957 Filed 5-28-08; 8:45 am]

BILLING CODE 5001-05-P